DEPARTMENT OF TRANSPORTATION

Research and Special Programs Administration

Office of Hazardous Materials Safety; Notice of Delays in Processing of Exemption Applications

AGENCY: Research and Special Programs Administration, DOT.

ACTION: List of applications delayed more than 180 days.

SUMMARY: In accordance with the requirements of 49 U.S.C. 5117(c), RSPA is publishing the following list of exemption applications that have been in process for 180 days or more. The reason(s) for delay and the expected completion date for action on each application is provided in association with each identified application.

FOR FURTHER INFORMATION CONTACT: J. Suzanne Hedgepeth, Director, Office of Hazardous Materials, Exemptions and Approvals, Research and Special Programs Administration, U.S. Department of Transportation, 400 Seventh Street, SW., Washington, DC 20590-0001, (202) 366-4535.

Key to “Reasons for Delay”

1. Awaiting additional information from applicant

2. Extensive public comment under review

3. Application is technically complex and is of significant impact or precedent-setting and requires extensive analysis

4. Staff review delayed by other priority issues or volume of exemption applications

Meaning of Application Number Suffixes

N—New application

M—Modification request

PM—Party to application with modification request

Issued in Washington, DC, on July 16, 2002.
J. Suzanne Hedgepeth,
Director, Office of Hazardous Materials Exemptions and Approvals.

Application No. | Applicant | Reason for delay | Estimated date of completion
New Exemption Applications
11862-N | The BOC, Group Murray Hill, NJ | 4 | 8/30/2002
11927-N | Alaska Marine Lines, Inc., Seattle, WA | 4 | 8/30/2002
12381-N | Ideal Chemical & Supply Co., Memphis, TN | 4 | 8/30/2002
12412-N | Great Western Chemical Company, Portland, OR | 4 | 8/30/2002
12440-N | Luxfer Inc., Riverside, CA | 4 | 8/30/2002
12571-N | Air Products & Chemicals, Inc., Allentown, PA | 4 | 8/30/2002
12630-N | Chemetall GmbH Gesellschaft Langelsheim, DE | 4 | 8/30/2002
12648-N | Stress Engineering Services, Inc., Houston, TX | 4 | 9/30/2002
12676-N | Hawks Logistics, Edmond, OK | 4 | 9/30/2002
12701-N | Fuel Cell Components & Integrators, Inc., Hauppauge, NY | 1 | 8/30/2002
12706-N | Raufoss Composites AS, Raufoss, NO | 4 | 8/30/2002
12715-N | Arkansas Eastman Division, Eastman Chemical Co., Batesville, AR | 4 | 8/30/2002
12718-N | Weldship Corporation, Bethlehem, PA | 4 | 8/30/2002
12751-N | Defense Technology Corporation, Casper, WY | 4 | 7/31/2002
12753-N | Praxair, Inc., Danbury, CT | 4 | 7/31/2002
12820-N | Trinity Manufacturing, Hamlet, NC | 4 | 7/31/2002
12843-N | United States Enrichment Corporation, Bethesda, MD | 4 | 8/30/2002
12845-N | Qantas Airways Limited, Los Angeles, CA | 4 | 8/30/2002
12859-N | Atlantic Research Corporation, Gainesville, VA | 4 | 8/30/2002
12867-N | G.L.I. Citergaz, 964 Civray, FR | 4 | 8/30/2002
12872-N | Southern California Edison, San Clemente, CA | 4 | 7/31/2002
12874-N | Zomeworks Corporation, Albuquerque, NM | 4 | 7/31/2002
12876-N | Asai Glass Fluoropolymers USA, Inc., Bayonne, NJ | 4 | 7/31/2002
12900-N | Syngenta Crop Protection, Inc., Greensboro, NC | 4 | 8/30/2002
12902-N | C&S Railroad Corp., Jim Thorpe, PA | 4 | 9/30/2002
12904-N | Chemex Corp., San Juan, PR | 4 | 9/30/2002
12924-N | Infineum USA LP, Linden, NJ | 4 | 8/30/2002
Modifications to Exemptions
4884-M | Matheson Tri-Gas, East Rutherford, NJ | 4 | 7/31/2002
7060-M | Federal Express, Memphis, TN | 4 | 7/31/2002
7277-M | Structural Composites Industries, Pomona, CA | 4 | 7/31/2002
8162-M | Structural Composites Industries, Pomona, CA | 4 | 7/31/2002
8308-M | Tradewind Enterprises, Inc., Hillsboro, OR | 4 | 7/31/2002
8308-M | American Courier Express Corporation, Miramar, FL | 4 | 7/31/2002
8554-M | Orica USA Inc. Englewood, CO | 4 | 7/31/2002
8718-M | Structural Composites Industries, Pomona, CA | 4 | 7/31/2002
10019-M | Structural Composites Industries, Pomona, CA | 4 | 7/31/2002
10440-M | MASS Systems (A Unit of Ameron Global, Inc.), Baldwin Park, CA | 4 | 7/31/2002
11327-M | Phoenix Services, Inc., Pasadena, MD | 1 | 8/30/2002
11379-M | TRW Automotive, Occupant Safety Systems, Washington, MI | 4 | 7/31/2002
11380-M | Baker Atlas (Houston Technology Center), Houston, TX | 4 | 7/31/2002
11537-M | JCI Jones Chemicals, Inc., Milford, VA | 4 | 7/31/2002
11769-M | Great Western Chemical Company, Portland, OR | 4 | 8/30/2002
11769-M | Great Western Chemical Company, Portland, OR | 4 | 8/30/2002
11769-M | Hydrite Chemical Company, Brookfield, WI | 4 | 8/30/2002
11791-M | The Coleman Company, Inc., Wichita, KS | 4 | 7/31/2002
11850-M | Air Transport Association, Washington, DC | 4 | 8/30/2002
11911-M | Transfer Flow, Inc., Chico, CA | 4 | 8/30/2002
11911-M | Transfer Flow, Inc., Chico, CA | 4 | 8/30/2002
12065-M | Petrolab Company, Latham, NY | 4 | 7/31/2002
12449-M | Chlorine Service Company, Inc., Kingwood, TX | 4 | 7/31/2002
12599-M | Voltaix, Inc., North Branch, NJ | 4 | 7/31/2002

[FR Doc. 02-18348 Filed 7-19-02; 8:45 am]

BILLING CODE 4910-60-M